NATIONAL FOUNDATION ON THE ARTS AND THE HUMANITIES

National Endowment for the Arts; President's Committee on the Arts and the Humanities: Meeting #59

Pursuant to Section 10 (a) (2) of the Federal Advisory Committee Act (Pub. L. 92-463), as amended, notice is hereby given that a meeting of the President's Committee on the Arts and the Humanities (PCAH) will be held on Wednesday, May 24, 2006, from 9:00 a.m. to 11 a.m. (ending time is tentative). The meeting will be held at the Carson Sound Stage, University of Southern California, School of Cinema-Television, 850 West 34th Street, Los Angeles, CA 90089-2211.

The Committee meeting will begin with a welcome, introductions, and announcements. Updates on Committee programs and activities will follow, including a report on youth arts and humanities projects and a presentation by Dr. Anne Imelda-Radice, the newly confirmed Director of the Institute of Museum and Library Services. In addition, reports are anticipated by Committee Chairman Adair Margo and Dr. Bruce Cole, Chairman of the National Endowment for the Humanities, on their recent visit to four past Coming Up Taller awardees in the Gulf Region, who were recently awarded Chairman's emergency grants to carry on their work. In addition, the President's Committee will continue discussion of its actions and initiatives in international cultural relations. The meeting will adjourn after discussion of other business, as necessary, and closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Jenny Schmidt of the President's Committee seven (7) days in advance of the meeting at (202) 682-5560 or write to the Committee at 1100 Pennsylvania Avenue, NW., Suite 526, Washington, DC 20506. Further information with reference to this meeting can also be obtained from Ms. Schmidt.

If you need special accommodations due to a disability, please contact Ms. Schmidt through the Office of AccessAbility, National Endowment for the Arts, 1100 Pennsylvania Avenue, NW., Suite 724, Washington, DC 20506, (202) 682-5532, TDY-TDD (202) 682-5560, at least seven (7) days prior to the meeting.

Dated: May 1, 2006.
Kathy Plowitz-Worden,
Panel Coordinator, Panel Operations, National Endowment for the Arts.

[FR Doc. E6-6927 Filed 5-5-06; 8:45 am]

BILLING CODE 7537-01-P